DEPARTMENT OF ENERGY

[Docket No. PP-371]

Amended Notice of Intent To Modify the Scope of the Environmental Impact Statement and Conduct Additional Public Scoping Meetings, and Notice of Floodplains and Wetlands Involvement for the Northern Pass Transmission Line Project

AGENCY: Department of Energy.

ACTION: Amended notice of intent to modify the scope of the environmental impact statement and conduct additional public scoping meetings; notice of floodplains and wetlands involvement.

SUMMARY: The U.S. Department of Energy (DOE or the Department) announces its intent to modify the scope of the Northern Pass Transmission Line Project Environmental Impact Statement (DOE/EIS-0463) and to conduct additional public scoping meetings. As described in the February 11, 2011, Notice of Intent (NOI) (76 FR 7828), in October 2010, Northern Pass Transmission LLC (Northern Pass or the Applicant) submitted an application to DOE for a Presidential permit to construct, operate, maintain, and connect a new electric transmission line across the U.S.-Canada border into northern New Hampshire. As explained in the 2011 NOI, DOE will assess the potential environmental impacts from the proposed Federal action of granting a Presidential permit to Northern Pass. On July 1, 2013, the Applicant submitted to DOE an amended application for a Presidential permit that reflected proposed changes to the route of the Northern Pass project. A map of the proposed route and segment maps are available on the DOE EIS Web site established for the preparation of the EIS at www.northernpasseis.us. A copy of the amended Presidential permit application can be found at the DOE EIS Web site or at the program Web site http://energy.gov/oe/services/electricity-policy-coordination-and-implementation/international-electricity-regulatio-2 (scroll down to PP-371) or a copy can be requested by emailing Angela Troy at angela.troy@hq.doe.gov. DOE now intends to revise the scope of the Environmental Impact Statement (EIS) to analyze the potential environmental impacts associated with these proposed changes.

The U.S. Forest Service—White Mountain National Forest, U.S. Army Corps of Engineers (USACE)—New England District, and U.S. Environmental Protection Agency (EPA)—Region 1 (New England) are cooperating agencies in the preparation of the EIS.

The EIS will provide the analysis to support a Forest Service decision on whether to issue a special use permit within the White Mountain National Forest. The responsible official for the Forest Service is the Forest Supervisor for the White Mountain National Forest.

Because the proposed Federal action may involve floodplains and wetlands, the draft EIS will include a floodplains and wetlands assessment as appropriate, and the final EIS and/or Record of Decision will include a floodplains and wetlands statement of findings.

DATES: The public scoping period will end on November 5, 2013. Written and oral comments will be given equal weight, and DOE will consider all comments emailed, postmarked or submitted on the Northern Pass EIS Web site by November 5, 2013, in defining the scope of this EIS. Comments submitted after the close of the comment period will be considered to the extent practicable.

Locations, dates, and times for the public scoping meetings are listed in the SUPPLEMENTARY INFORMATION section of this Amended NOI.

Requests to speak at one or more public scoping meeting(s) should be received at the address indicated below by September 18, 2013; requests received by that date will be given priority in the speaking order. However, requests to speak also may be made at the scoping meetings.

ADDRESSES: Requests to speak at a public scoping meeting(s), and requests for individuals to be added to the document mailing list (to receive a paper or electronic copy of the Draft EIS) should be addressed to: Brian Mills, Office of Electricity Delivery and Energy Reliability (OE-20), U.S. Department of Energy, 1000 Independence Avenue SW., Washington, DC 20585; by email to Brian.Mills@hq.doe.gov; or by facsimile to 202-586-8008. For general information on the DOE NEPA process contact: Ms. Carol M. Borgstrom, Director, Office of NEPA Policy and Compliance (GC-54), U.S. Department of Energy, 1000 Independence Avenue, SW., Washington, DC 20585; by email at askNEPA@hq.doe.gov; at 202-586-4600, or 800-472-2756; or by facsimile at 202-586-7031.

FOR FURTHER INFORMATION CONTACT: For information on DOE's proposed action, contact Brian Mills by one of the methods listed in ADDRESSES above, or at 202-586-8267. For information on the Forest Service's role as a cooperating agency, contact Tiffany Benna by email at tbenna@fs.fed.us; by phone at 603-536-6241; by facsimile at 603-536-3685; or by mail at 71 White Mountain Drive, Campton, NH 03223. For information on the USACE's role as a cooperating agency and its permit process, contact David M. Keddell by email at david.m.keddell@usace.army.mil; by phone at 978-318-8692; or by mail at 696 Virginia Road, Concord, MA 01742. For information on EPA's role as a cooperating agency, contact Timothy Timmermann by email at timmermann.timothy@epamail.epa.gov; by phone at 617-918-1025; or by mail at 5 Post Office Square, Suite 100 (Mail code: ORA-17-1), Boston, MA 02109-3912.

SUPPLEMENTARY INFORMATION:

Background

Executive Order (E.O.) 10485, as amended by E.O. 12038, requires that before an electric transmission facility may be constructed, operated, maintained, or connected at the U.S. international border, a Presidential permit must be issued by DOE. E.O. 10485 provides that DOE may issue a Presidential permit upon finding issuance of the permit to be consistent with the public interest and after obtaining favorable recommendations from the U.S. Departments of State and Defense. In determining whether issuance of a Presidential permit would be consistent with the public interest, DOE considers the potential environmental impacts of the proposed project pursuant to the National Environmental Policy Act (NEPA), 42 U.S.C. 4321-4371 et seq., the impact of the proposed project' on electric reliability (including whether the proposed project would adversely affect the operation of the U.S. electric power supply system under normal and contingency conditions), and considers any other factors that DOE may find relevant to the public interest. The regulations implementing E.O. 10485 have been codified at 10 CFR 205.320-205.329. DOE's issuance of a Presidential permit would not mandate that the project be undertaken.

On October 14, 2010, the Applicant applied to DOE for a Presidential permit to construct, operate, maintain, and connect a high-voltage direct current (HVDC) transmission line across the U.S.-Canada border. After due consideration of the nature and extent of the proposed project, DOE determined that the appropriate level of NEPA review is an EIS and, published an NOI on February 11, 2011 (76 FR 7828). On February 15, 2011, Northern Pass submitted an addendum updating and supplementing its Presidential permit application in certain respects, such as: The preferred border crossing location, routing information and potential environmental impacts. On April 12, 2011, Northern Pass submitted a letter to DOE withdrawing support for certain alternatives and requesting an extension of the scoping period. On April 15, 2011, DOE issued a notice in the Federal Register (76 FR 21338) reopening the public scoping period for 60 additional days, until June 14, 2011. On June 15, 2011, DOE issued a notice in the Federal Register reopening the scoping period until further notice (76 FR 34969). On July 1, 2013, Northern Pass submitted an amended Presidential permit application to DOE, as described below.

Applicant's Proposal

Northern Pass' amended application, replaces the application that Northern Pass submitted on October 14, 2010, and supplemented on February 15, 2011, and April 12, 2011. In the amended application, Northern Pass proposes to construct and operate a primarily overhead HVDC electric transmission line that would originate at an HVDC converter station to be constructed at the Des Cantons Substation in Québec, Canada, then would be converted from HVDC to alternating current (AC) in Franklin, NH, and would continue to its southern terminus in Deerfield, NH (collectively the “proposed Project”). The proposed facilities would be capable of transmitting up to 1200 megawatts (MW) of power.

The New Hampshire portion of the proposed Project would be a single circuit 300 kilovolt (kV) HVDC transmission line running approximately 153 miles from the U.S. border crossing with Canada near the community of Pittsburg, NH, to a new HVDC-to-AC transformer facility to be constructed in Franklin, NH. From Franklin, NH, to the Project terminus at the Public Service Company of New Hampshire's existing Deerfield Substation located in Deerfield, NH, the proposed Project would consist of 34 miles of 345-kV AC electric transmission line. The total length of the proposed Project would be approximately 187 miles.

The amended proposed route for the proposed Project remains largely unchanged from the application submitted on October 14, 2010, for the Central and Southern sections, but has been substantially reconfigured for the Northern section. Maps of these route sections are available on the DOE EIS Web site at www.northernpasseis.us. The amended proposed route continues to maximize the use of the existing right-of-way (ROW) in all sections.

The majority of the Northern section of the amended proposed route has been moved to a less populated area on properties that Renewable Properties, Inc., an affiliate of Northern Pass, has purchased, leased, or obtained an easement on from landowners. The amended proposed route includes the use of additional existing ROW in the towns of Dummer, Stark, and Northumberland, NH. It also includes two underground segments: 2,300 feet and 7.5 miles in the towns of Pittsburg/Clarksville and Clarksville/Stewartstown, NH, respectively.

In the Southern section, Northern Pass previously indicated that a deviation from the existing ROW would be necessary if the Federal Aviation Administration (FAA) requirements could not be met to locate the proposed transmission line in the existing ROW around Concord Airport. In its amended application, Northern Pass states that it has determined that the proposed Project can meet the necessary FAA requirements, and the amended proposed route reflects that the proposed Project would follow the existing ROW near the Concord Airport.

The amended application also notes key developments since Northern Pass' original application filing, including additional information about the potential environmental, historical, and cultural impacts of the proposed Project, information about the transmission structure locations and heights along the entire proposed route, and discussion of certain alternatives suggested through public comment.

Notice of Floodplains and Wetlands Involvement

Because the proposed Federal action may involve floodplains and wetlands, in accordance with 10 CFR Part 1022, Compliance with Floodplain and Wetland Environmental Review Requirements, as part of the analysis of impacts, DOE will conduct field delineation of floodplains and wetlands along Northern Pass' proposed amended route and, as applicable, any reasonable alternatives, using state and federal protocols and consulting Federal Emergency Management Agency Flood Insurance Rate Maps. The EIS will include a floodplains and wetlands assessment, as appropriate, and the final EIS or record of decision will include a floodplains statement of findings.

Previous Public Scoping

The public scoping period has remained open for comment almost continuously since the NOI was published on February 11, 2011. Most recently, on June 15, 2011, the Department announced a reopening of the public scoping period, in anticipation of additional route information being provided by Northern Pass, and stated that the scoping period would remain open until the Department provided further notice of its closing. (76 FR 34969; June 15, 2011). To date, the Department has received over 3,000 scoping comments. Commenters have expressed concerns over a broad range of topics, including, but not limited to, the range of alternatives to be considered in the EIS, potential socioeconomic impacts in the region, potential visual impacts, the agencies' purpose and need, the NEPA process, potential impacts to wildlife, and potential impacts to tourism. DOE held public scoping meetings from March 14 through March 20, 2011, in Pembroke, Franklin, Lincoln, Whitefield, Plymouth, Colebrook, and Haverhill, NH. DOE will consider these comments, as well as those submitted during the duration of the scoping period. In addition, DOE will consider comments submitted after the close of the scoping period to the extent practicable. Information on additional public scoping meetings can be found below in the Public Scoping Process for the Amended Application section.

Agency Purpose and Need, Proposed Action, and Alternatives

The purpose and need for DOE's action is to decide whether to grant a Presidential permit for the Northern Pass Project. DOE's proposed Federal action is the granting of the Presidential permit for the construction, operation, maintenance, and connection of the proposed new electric transmission line across the U.S.-Canada border in New Hampshire. The EIS will analyze potential environmental impacts of the proposed Federal action, reasonable alternatives, and the No Action Alternative. Under the No Action Alternative, DOE would deny the Northern Pass application for a Presidential permit.

DOE invites Tribal governments and Federal, state, and local agencies with jurisdiction by law or special expertise with respect to environmental issues to be cooperating agencies in the preparation of the EIS, pursuant to 40 CFR 1501.6. Cooperating agencies have certain responsibilities to support the NEPA process, as specified at 40 CFR 1501.6(b). The U.S. Forest Service—White Mountain National Forest, U.S. Army Corps of Engineers—New England District, and U.S. Environmental Protection Agency—Region 1 (New England) are cooperating agencies.

Where the activity involves the discharge of dredged or fill material into waters of the United States, a permit from the Army Corps of Engineers is required pursuant to Section 404 of the Clean Water Act (33 U.S.C. 1344). Army Corps of Engineers regulations provide for concurrent decision making with states, and combining insofar as possible processes and procedures, including public involvement procedures, and the review of public interest factors (33 CFR 320.4(a)(1)) leading to a Section 404 Permit decision. The Army Corps of Engineers General Regulatory Policies can be found at 33 CFR Part 320.

The Forest Service is evaluating whether to issue a special use permit to Northern Pass to construct, operate, and maintain a new electric transmission line in the White Mountain National Forest. The EIS will provide the analysis needed to support a Forest Service decision and will be consistent with Forest Service NEPA regulations found at 36 CFR Part 220. In addition, the EIS will identify Forest Plan management direction that would apply to this project, and determine whether the proposed action or any alternative would require a site-specific Forest Plan amendment.

USFS Objections Process

The proposed project is an activity implementing a land management plan that is subject to the objection process described in 36 CFR part 218 Subparts A and B. The public is encouraged to provide specific written comments on this proposal, including supporting reasons for the responsible official to consider. Specific written comments are within the scope of and have a direct relationship to the proposed action. Transcripts of oral comments meeting these criteria and presented at official scoping meetings will be considered specific written comments. Written comments will be accepted for 60 calendar days following this publication of the amended notice of intent in the Federal Register. This publication is the exclusive means for calculating the comment period.

It is the responsibility of persons providing comments to submit them by the close of the scoping comment period. Only those who submit timely and specific written comments during a designated opportunity for public participation, including this scoping period or the comment period associated with the Draft EIS, will have eligibility to file an objection under § 218.8. For objection eligibility, each individual or representative from each entity submitting timely and specific written comments must either sign the comment or verify identity upon request. Individuals and organizations wishing to be eligible to object must meet the information requirements in § 218.25(a)(3). Names and contact information submitted with comments will become part of the public record and may be released under the Freedom of Information Act.

Section 106 Review

As outlined in 36 CFR Part 800, “Protection of Historic Properties,” DOE will comply with Section 106 of the National Historic Preservation Act of 1966, as amended, (NHPA) as a separate, but parallel, process to the NEPA process. DOE will provide information about its compliance with Section 106 of the NHPA in subsequent Federal Register notices.

Public Scoping Process for the Amended Application

Interested parties are invited to participate in the scoping process, both to help define the environmental issues to be analyzed and to identify the range of reasonable alternatives. Both oral and written comments will be considered and given equal weight, regardless of how submitted. Written comments can be submitted either electronically or by paper copy; if the latter, consider using a delivery service because materials submitted by regular mail often arrive damaged. (Warped and unusable CD or DVD discs are common.) Additionally, comments can be submitted through the project Web site at www.northernpasseis.us. This site will also serve as a repository for all public documents and the central location for announcements. Individuals may subscribe to the “email list” feature on the project Web site in order to receive future announcements and news releases.

As part of the scoping process, DOE will hold the following additional scoping meetings:

1. Concord, NH, Grappone Conference Center, 70 Constitution Avenue, Monday, September 23, 2013, 6-9 p.m.;

2. Plymouth, NH, Plymouth State University, Silver Center for the Arts, Hanaway Theater, 17 High Street, Tuesday, September 24, 2013, 5-8 p.m.;

3. Whitefield, NH, Mountain View Grand Resort & Spa, Presidential Room, 101 Mountain View Road, Wednesday, September 25, 2013, 5-8 p.m.; and

4. West Stewartstown, NH, The Outback Pub at The Spa Restaurant, 869 Washington Street, Thursday, September 26, 2013, 5-8 p.m.

If assistance is needed to participate in any of the DOE scoping meetings (e.g., qualified interpreter, computer-aided real-time transcription), please submit a request for auxiliary aids and services to DOE by September 16, 2013 by contacting Brian Mills as described in the ADDRESSES section above.

The scoping meetings will be structured in two parts: First, an open house portion for the initial 30 minutes of each meeting that will not be recorded; and second, a formal commenting session for the remainder of each meeting, during which oral comments will be transcribed by a stenographer. The meetings will provide interested parties the opportunity to view exhibits on the proposed Project and provide scoping comments. The Applicant will be available to answer questions and provide information to attendees. Meeting attendees are not permitted to bring in any items that may be disruptive to the meeting, and therefore interfere with the public's right to participate in the NEPA process. Each venue reserves the right to restrict any such unpermitted items.

Persons submitting comments during the scoping process, whether orally or in writing, will be added to the mailing list to receive either paper or electronic copies of the Draft EIS, according to their preference. Persons who do not wish to submit comments or suggestions at this time, but who would like to receive a copy of the Draft EIS for review and comment when it is issued, should notify Brian Mills, as provided in the ADDRESSES section above, with their paper-or-electronic preference.

DOE will summarize comments received in a “Scoping Report” that will be available on the project Web site.

EIS Preparation and Schedule

Following completion of the Scoping Report, DOE will prepare the Draft EIS, taking into consideration comments received during the scoping period. DOE plans to issue the Draft EIS in 2014. After DOE issues the Draft EIS, the EPA will publish a notice of availability (NOA) of the Draft EIS in the Federal Register, which will begin a minimum 45-day public comment period. DOE will announce how to comment on the Draft EIS and will hold at least one public hearing during the public comment period. In preparing the Final EIS, DOE will respond to comments received on the Draft EIS. DOE plans to issue the Final EIS in 2015. No sooner than 30 days after the EPA publishes a NOA of the Final EIS, DOE will issue its Record of Decision.

Issued in Washington, DC, on August 29, 2013.
Patricia A. Hoffman,
Assistant Secretary, Office of Electricity Delivery and Energy Reliability.

[FR Doc. 2013-21778 Filed 9-5-13; 8:45 am]

BILLING CODE 6450-01-P